DEPARTMENT OF HEALTH AND HUMAN SERVICES

National Institutes of Health

Center for Scientific Review; Amended Notice of Meeting

Notice is hereby given of a change in the meeting of the Modeling and Analysis of Biological Systems Study Section, February 8, 2012, 8 a.m. to February 9, 2012, 5 p.m., Hyatt Regency Bellevue on Seattle, 900 Bellevue Way NE., Bellevue, WA 98004 which was published in the Federal Register on January 4, 2012, 77 FR 296.

The meeting will be held at the Renaissance Seattle Hotel, 515 Madison Street, Seattle, WA 98104. The meeting date and time remains the same. The meeting is closed to the public.

Dated: January 19, 2012.
Jennifer S. Spaeth,
Director, Office of Federal Advisory Committee Policy.

[FR Doc. 2012-1689 Filed 1-25-12; 8:45 am]

BILLING CODE 4140-01-P